DEPARTMENT OF TRANSPORTATION

Federal Highway Administration

Environmental Impact Statement: Peoria, Fulton, and McDonough Counties, Illinois

AGENCY: Federal Highway Administration (FHWA), DOT.

ACTION: Notice of Intent.

SUMMARY: The FHWA is issuing this notice to advise the public that an Environmental Impact Statement (EIS) will be prepared for the construction of a proposed four-lane highway in west central Illinois through portions of Peoria, Fulton, and McDonough Counties. The proposed highway, Illinois 336 (FAP 315), will extend from Peoria to Macomb, Illinois.

FOR FURTHER INFORMATION CONTACT: Norman R. Stoner, P.E., Division Administrator, Federal Highway Administration, 3250 Executive Park Drive, Springfield, Illinois 62703, Phone: (217) 492-4600.

Joseph E. Crowe, P.E., District Engineer, Illinois Department of Transportation, 401 Main Street, Peoria, Illinois 61602-1111, Phone: (309) 671-3333.

SUPPLEMENTARY INFORMATION: The FHWA, in cooperation with the Illinois Department of Transportation will prepare an Environmental Impact Statement (EIS) on a proposal to develop a four-lane highway between Peoria and Macomb Illinois. Three feasible corridors previously identified by Illinois DOT will be re-evaluated and one corridor will be selected for further study. The selected corridor will be presented at a public hearing. Alternate alignments will be studied within the selected corridor once it has been identified. Alternates studied will address engineering and environmental concerns in order to determine an alignment location that meets the transportation needs of the region and minimizes the impacts to the environment. Alignment studies will determined one preferred alignment location and address types of facility, preliminary interchange geometrics and engineering, and identify environmental impacts. Preliminary measures to minimize harm, probable construction cost estimates, and estimated right-of-way requirements will be developed. A second hearing will beheld to present the final preferred alignment.

The proposed action will enhance travel efficiency within the study area, improve transportation continuity, improve rural access, and help reduce further economic and population decline in the counties served by this highway. Several alignment alternatives, including the no-action alternative, will be evaluated for the proposed project. Intersections/interchanges will be provided at all major high-volume roadways. Primary resources that may be affected are agricultural and, property tax income, wetlands, and woodlands.

The scoping process undertaken as part of this project will include the distribution of a scoping informational packet, coordination with appropriate Federal, State, and local agencies, and review sessions, as needed. A study group comprised of local officials will be established to provide input during development and refinement of alternatives. A scoping packet may be obtained from one of the contact people listed above.

To ensure that the full range of issues related to this proposed action are addressed, and all substantive issues are identified, public involvement activities will be conducted as part of this study. Public informational meetings, public hearings, newsletters and interest group meetings will provide opportunities for public involvement. The project's Draft EIS will be available for public and agency review prior to the public hearing. The time and location of the public hearings will be announced in local newspapers. Comments or questions concerning this proposed action and the Draft EIS should be directed to FHWA or the Illinois Department of Transportation at the addresses provided above.

(Catalog of Federal Domestic Assistance Program Number 20.205, Highway Planning and Construction. The regulations implementing Executive Order 12372 regarding intergovernmental consultation on Federal programs and activities apply to this program.)

Dated: January 30, 2003.
J.D. Stevenson,
(FHWA Signature Line).

[FR Doc. 03-2785 Filed 2-4-03; 8:45 am]

BILLING CODE 4910-22-M